POSTAL SERVICE

Change in Class of General Applicability for Competitive Products

AGENCY: Postal Service™.

ACTION: Notice of a change in class of general applicability for competitive products.

SUMMARY: This notice sets forth changes in class of general applicability for Priority Mail Express.

DATES: May 23, 2021.

FOR FURTHER INFORMATION CONTACT: Elizabeth Reed, 202-268-3179.

SUPPLEMENTARY INFORMATION: On February 8, 2021, pursuant to their authority under 39 U.S.C. 3632, the Governors of the Postal Service established classification changes for a competitive product, namely, Priority Mail Express. The Governors' Decision and the record of proceedings in connection with such decision are reprinted below in accordance with section 3632(b)(2).

Joshua J. Hofer,
Attorney, Ethics & Legal Compliance.

Decision of the Governors of the United States Postal Service on Changes in Class of General Applicability for Competitive Product (Governors' Decision No. 21-1)

February 8, 2021

Statement of Explanation and Justification

Pursuant to authority under section 3632 of title 39, as amended by the Postal Accountability and Enhancement Act of 2006 (“PAEA”), we establish changes in a class of general applicability for the Postal Service's shipping services (competitive products), namely, Priority Mail Express. The changes are reflected in the attached draft Mail Classification Schedule (MCS) sections, with classification changes shown in legislative format.

The Postal Service intends to make certain changes to the Priority Mail Express product to update the guaranteed delivery times available to customers. The base service will now provide 6:00 p.m. delivery commitments for all origin-destination ZIP Code pairs. All current 12:00 p.m., 3:00 p.m., and 5:00 p.m. delivery commitments will be moved to 6:00 p.m. These changes are intended to better align the product with operational capabilities, reduce the need for extraordinary operational efforts and deviations, and maintain a competitive end-of-day offering in the shipping services market. These delivery time changes will be accomplished via updates to the Domestic Mail Manual (DMM), which will be issued in conjunction with this Governors' Decision and associated Commission filing.

In accordance with these changes, the Postal Service will be eliminating the 10:30 a.m. delivery option and the associated fee from the Priority Mail Express product in the MCS. All other aspects of the Priority Mail Express product in the MCS will remain unchanged.

We have reviewed management's proposal and have evaluated the classification changes in accordance with 39 U.S.C. 3632-3633 and 39 CFR 3035. We approve the changes, finding that they are appropriate, and are consistent with the regulatory criteria as indicated by management.

Order

The classification changes set forth herein shall be effective on April 18, 2021, or as deemed advisable by management thereafter. We direct the Secretary to have this decision published in the Federal Register in accordance with 39 U.S.C. 3632(b)(2), and direct management to file with the Postal Regulatory Commission appropriate notice of these changes.

By The Governors:

/s/

Robert M. Duncan,

Chairman, Board of Governors.

UNITED STATES POSTAL SERVICE OFFICE OF THE BOARD OF GOVERNORS

CERTIFICATION OF GOVERNORS' VOTE ON GOVERNORS' DECISION NO. 21-1

Consistent with 39 U.S.C. 3632(a), I hereby certify that, on February 8, 2021, the Governors voted on adopting Governors' Decision No. 21-1, and a majority of the Governors then holding office voted in favor of that Decision.

/s/

Date: February 8, 2021.

Michael J. Elston

Secretary of the Board of Governors.

BILLING CODE 7710-12-P

[FR Doc. 2021-06674 Filed 3-31-21; 8:45 am]

BILLING CODE 7710-12-C